DEPARTMENT OF HEALTH AND HUMAN SERVICES

Centers for Disease Control and Prevention

[30Day-25-1446]

Agency Forms Undergoing Paperwork Reduction Act Review

In accordance with the Paperwork Reduction Act of 1995, the Centers for Disease Control and Prevention (CDC) has submitted the information collection request titled “Risk factors, clinical course, presence and persistence of virus in various bodily fluids, and risk of sexual transmission among U.S. adults with Oropouche virus disease” to the Office of Management and Budget (OMB) for review and approval. CDC previously published a “Proposed Data Collection Submitted for Public Comment and Recommendations” notice on November 4, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Risk factors, clinical course, presence and persistence of virus in various bodily fluids, and risk of sexual transmission among U.S. adults with Oropouche virus disease (OMB Control No. 0920-1446, Exp. 3/31/2025)—Reinstatement—National Center for Emerging and Zoonotic Diseases (NCEZID), Centers for Disease Control and Prevention (CDC).

Background and Brief Description

Data collection for this project was originally approved through an Emergency Information Collection Request (ICR). CDC is submitting this package as a Revision to convert it into a standard ICR under the PRA.

CDC will work with state health departments to determine if any individuals who either are reported as Oropouche virus (OROV) disease cases to ArboNET, the national surveillance system for arboviral diseases, or have samples submitted to CDC that test positive for OROV infection meet the inclusion criteria for the study. The goals of this study are to assess potential risk factors for OROV disease, describe the clinical course and outcomes of OROV disease among U.S. travelers, and to assess the prevalence and duration of OROV, viral RNA, and OROV-specific neutralizing antibodies in various bodily fluids. The results of this investigation will inform prevention and messaging and aid in clinical diagnosis and care.

CDC requests OMB approval for an estimated 663 annual burden hours. There are no costs to respondents other than their time.

Estimated Annualized Burden Hours
Type of respondent | Form name | Number of respondents | Number responses per respondent | Avg. burden per response (in hrs.)
General public | Baseline survey | 200 | 1 | 30/60
| Follow-up clinical survey | 200 | 6 | 15/60
| Symptom Diary | 200 | 6 | 10/60
| Contact Tracing Survey | 100 | 1 | 15/60
| Sexual Contact Interview form | 150 | 1 | 15/60

Jeffrey M. Zirger,
Lead, Information Collection Review Office, Office of Public Health Ethics and Regulations, Office of Science, Centers for Disease Control and Prevention.

[FR Doc. 2025-10518 Filed 6-10-25; 8:45 am]

BILLING CODE 4163-18-P